DEPARTMENT OF TRANSPORTATION

Federal Aviation Administration

14 CFR Part 39

[Docket No. FAA-2017-0439; Directorate Identifier 2017-CE-010-AD]

RIN 2120-AA64

Airworthiness Directives; B/E Aerospace Protective Breathing Equipment Part Number 119003-11 and Part Number 119003-21

AGENCY: Federal Aviation Administration (FAA), DOT.

ACTION: Notice of proposed rulemaking (NPRM).

SUMMARY: We propose to supersede Airworthiness Directive (AD) 2016-11-20, which applies to certain B/E Aerospace protective breathing equipment (PBE) that is installed on airplanes. AD 2016-11-20 requires replacing part number (P/N) 119003-11 PBE units. Since we issued AD 2016-11-20, we received a report that PBE units, P/N 119003-21, within a certain serial number range are made with candle tube material determined to have a low yield strength and may be volatile upon use or disposal. This proposed AD would retain the actions required in AD 2016-11-20 and would require inspecting and replacing P/N 119003-11 and 119003-21 PBE units. We are proposing this AD to correct the unsafe condition on these products.

DATES: We must receive comments on this proposed AD by July 10, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact B/E Aerospace, Inc., Commercial Aircraft Products Group, 10800 Pflumm Road, Lenexa, Kansas 66215; phone: (913) 338-9800; fax: (913) 338-8419; Internet: www.beaerospace.com. You may view this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2017-0439; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: David Enns, Aerospace Engineer, Wichita Aircraft Certification Office, FAA, 1801 S. Airport Road, Room 100, Wichita, Kansas 67209; phone: (316) 946-4147; fax: (316) 946-4107; email: david.enns@faa.gov.

SUPPLEMENTARY INFORMATION:

Comments Invited

We invite you to send any written relevant data, views, or arguments about this proposed AD. Send your comments to an address listed under the ADDRESSES section. Include “Docket No. FAA-2017-0439; Directorate Identifier 2017-CE-010-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On May 25, 2016, we issued AD 2016-11-20, Amendment 39-18547 (81 FR 37492, June 10, 2016), (“AD 2016-11-20”), for B/E Aerospace Protective Breathing Equipment (PBE), part number (P/N) 119003-11, that is installed on airplanes. AD 2016-11-20 requires replacing all PBE, P/N 119003-11, with PBE, P/N 119003-21. AD 2016-11-20 resulted from a report of a PBE unit, P/N 119003-11, catching fire upon activation by a crewmember. We issued AD 2016-11-20 to correct the unsafe condition on these products.

Actions Since AD 2016-11-20 Was Issued

Since we issued AD 2016-11-20, we received a report that a mechanic incurred a minor injury when he activated the affected PBE unit as part of the disposal process. The igniter candle in the PBE supplies the user with oxygen during the first 20 seconds after activation. For PBE units with a serial number within the serial number range identified in this proposed AD, the candle tube material was determined to have a low yield strength. This can result in inadequate retention of the end fitting during activation, and the candle may eject from the PBE as a high speed projectile.

Related Service Information Under 1 CFR Part 51

We reviewed B/E Aerospace Service Bulletin No. 119003-35-011, Rev. 000, dated February 4, 2015; Service Bulletin 119003-35-009, Rev. 001, dated April 12, 2016; and Service Bulletin No. 119003-35-013, Rev. 001, dated February 24, 2017. B/E Aerospace Service Bulletin No. 119003-35-011, Rev. 000, dated February 4, 2015, describes procedures for inspecting PBE, P/N 119003-11, to determine if the vacuum seal of the pouch containing the PBE is compromised; B/E Aerospace Service Bulletin No. 119003-35-009, Rev. 001, dated April 12, 2016, describes procedures for replacing PBE, P/N 119003-11 with P/N 119003-21; and B/E Aerospace Service Bulletin No. 119003-35-013, Rev. 001, dated February 24, 2017, describes procedures for inspecting PBE P/N 119003-21 to determine the serial number and replacing any within the specified serial number range. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would retain all requirements of AD 2016-11-20. This proposed AD would also require inspecting PBE P/N 119003-21 to determine the serial number and replacing any within the specified serial number range.

Differences Between This Proposed AD and the Service Information

We are not proposing to require the disposal of the PBE as specified in the related service information because we have determined that owner/operators use various methods for disposal, which includes returning the PBE to the manufacturer. Therefore, we have not proposed the use of only one method of disposal. However, given the potential concern with activation of certain PBE units during disposal, we encourage coordination with the manufacturer and awareness of the disposal methods.

Costs of Compliance

We estimate that this proposed AD affects 9,000 products installed on airplanes of U.S. registry.

We estimate the following costs to comply with this proposed AD:

Estimated Costs
Action | Labor cost | Parts cost | Cost per product | Cost on U.S. operators
Inspecting the pouch containing the PBE for proper vacuum seal | .5 work-hour × $85 per hour = $42.50 | Not applicable | $42.50 | $382,500
Replace PBE P/N 119003-11 with PBE P/N 119003-21 | .5 work-hour × $85 per hour = $42.50 | $1,510 | 1,552.50 | 13,972,500
Inspecting the PBE to determine whether an affected PBE P/N 119003-21 is installed | .5 work-hour × $85 per hour = $42.50 | Not applicable | 42.50 | 382,500

We estimate the following costs to replace any affected PBE P/N 119003-21 units that fall within the affected serial number range. We have no way of determining the number of aircraft that might need these repairs/replacements:

On-Condition Costs
Action | Labor cost | Parts cost | Cost per product
Replacement of PBE P/N 119003-21 | .5 work-hour × $85 per hour = $42.50 | $1,510 | $1,552.50

The cost difference between AD 2016-11-20 and this proposed AD is the cost of inspecting for serial number determination and replacing the affected serial numbers. This part of the proposed AD could potentially affect 2,070 PBE units.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-11-20, Amendment 39-18547 (81 FR 37492, June 10, 2016), and adding the following new AD:

B/E Aerospace: Docket No. FAA-2017-0439; Directorate Identifier 2017-CE-010-AD.

(a) Comments Due Date

The FAA must receive comments on this AD action by July 10, 2017.

(b) Affected ADs

This AD replaces AD 2016-11-20, Amendment 39-18547 (81 FR 37492, June 10, 2016), (“AD 2016-11-20”).

(c) Applicability

This AD applies to B/E Aerospace Protective Breathing Equipment (PBE), part numbers (P/N) 119003-11 and 119003-21, that are installed on airplanes.

(d) Subject

Joint Aircraft System Component (JASC)/Air Transport Association (ATA) of America Code 35; Oxygen.

(e) Unsafe Condition

AD 2016-11-20 was prompted by a report of a PBE unit, P/N 119003-11, catching fire upon activation by a crewmember. This AD was prompted by a report that PBE units, P/N 119003-21, within a certain serial number range are made with candle tube material determined to have a low yield strength and may be volatile upon use or disposal. We are issuing this AD to correct the unsafe condition on these products.

(f) Compliance

Comply with this AD within the compliance times specified, unless already done.

(g) Inspection Retained From AD 2016-11-20 for Airplanes With PBE, P/N 119003-11, Installed

Within 3 months after July 15, 2016 (the effective date of AD 2016-11-20), while still in the stowage box, physically inspect the PBE pouch to determine if it has an intact vacuum seal. Do this inspection following paragraph III.A.(1) of the Accomplishment Instructions in B/E Aerospace Service Bulletin No. 119003-35-011, Rev. 000, dated February 4, 2015.

(h) Replacement Retained From AD 2016-11-20 for Airplanes With PBE, P/N 119003-11, Installed

(1) During the inspection required in paragraph (g) of this AD, if a PBE pouch is found that does not have an intact vacuum seal, before further flight or following existing MEL procedures, replace the PBE with a PBE unit, P/N 119003-21 that is not within the serial number (S/N) range 004-14768M through 004-21093M or 004-02393M through 004-03033M, following paragraphs III.C., III.D.(4), III.D.(6), and III.D.(7) of the Accomplishment Instructions in B/E Aerospace SB No. 119003-35-009, Rev. 001, dated April 12, 2016, or replace it with another FAA-approved PBE installation.

(2) During the inspection required in paragraph (g) of this AD, if a PBE pouch is found where the vacuum seal is intact, within 18 months after July 15, 2016 (the effective date of AD 2016-11-20), remove PBE, P/N 119003-11, and replace it with a PBE, P/N 119003-21 that is not within the S/N range 004-14768M through 004-21093M or 004-02393M through 004-03033M, following paragraphs III.C., III.D.(4), III.D.(6), and III.D.(7) of the Accomplishment Instructions in B/E Aerospace Service Bulletin No. 119003-35-009, Rev. 001, dated April 12, 2016, or replace it with another FAA-approved PBE installation.

(i) New Inspection for Airplanes With PBE, P/N 119003-21, Installed

Within 6 months after the effective date of this AD, inspect PBE, P/N 119003-21, to determine if the S/N is within the range of 004-14768M through 004-21093M or 004-02393M through 004-03033M. Do this inspection following paragraph III.A of the Accomplishment Instructions in B/E Aerospace SB No. 119003-35-013, Rev. 001 dated February 24, 2017.

(j) New Replacement for Airplanes With PBE, P/N 119003-21, Installed

During the inspection required in paragraph (i) of this AD, if it is found that the PBE, P/N 119003-21, is within the S/N range specified in paragraph (i) of this AD, before further flight or following existing MEL procedures, remove the PBE and replace it with a PBE, P/N 119003-21, that does not have a S/N 004-14768M through 004-21093M or 004-02393M through 004-03033M. Do this replacement following paragraphs III.C., III.D.(4), III.D.(6), and III.D.(7) of the Accomplishment Instructions in B/E Aerospace SB No. 119003-35-013, Rev. 001, dated February 24, 2017, or replace it with another FAA-approved PBE installation.

(k) Prohibited Installation

As of the effective date of this AD, do not install a PBE, P/N 119003-21, that has a S/N within the range of 004-14768M through 004-21093M or 004-02393M through 004-03033M.

(l) Credit for Actions Done Following Previous Service Information

If you performed the inspection and replacement action required in paragraphs (i) and (j) of this AD before the effective date of this AD using B/E Aerospace Service Bulletin No. 119003-35-013, Rev. 001, dated January 9, 2017, you met the requirements of those paragraphs of this AD.

(m) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n)(1) of this AD.

(2) Before using any approved AMOC, notify your appropriate principal inspector, or lacking a principal inspector, the manager of the local flight standards district office/certificate holding district office.

(n) Related Information

(1) For more information about this AD, contact David Enns, Aerospace Engineer, Wichita ACO, FAA, 1801 S. Airport Road, Room 100, Wichita, Kansas 67209; phone: (316) 946-4147; fax: (316) 946-4107; email: david.enns@faa.gov.

(2) For B/E Aerospace, Inc. service information identified in this AD, contact B/E Aerospace, Inc., 10800 Pflumm Road, Commercial Aircraft Products Group, Lenexa, Kansas 66215; phone: (913) 338-9800; fax: (913) 338-8419; Internet: www.beaerospace.com. You may view this referenced service information at the FAA, Small Airplane Directorate, 901 Locust, Kansas City, Missouri 64106. For information on the availability of this material at the FAA, call (816) 329-4148.

Issued in Kansas City, Missouri, on May 3, 2017.
Melvin Johnson,
Acting Manager, Small Airplane Directorate, Aircraft Certification Service.

[FR Doc. 2017-10409 Filed 5-25-17; 8:45 am]

BILLING CODE 4910-13-P